GENERAL SERVICES ADMINISTRATION

Federal Supply Service

Non-Express Small Package Tender of Service

AGENCY: Federal Supply Service, GSA.

ACTION: Notice of final issuance of the GSA Non-Express Small Package Tender of Service.

SUMMARY: The General Services Administration (GSA), in compliance with 41 U.S.C. 418b, is publishing the GSA Non-Express Small Package Tender of Service (SPTOS) which may be accessed as described in the Supplementary Information of this notice. The SPTOS establishes a uniform basis for buying routine non-express small package transportation service. GSA's solicitation and acceptance of small package rates and charges provides highly competitive pricing, which in certain cases includes the solicitation and acceptance of rates specific to an individual agency that accommodate that agency's particular traffic characteristics. GSA's Federal customer agencies benefit from the SPTOS, which leverages the Government's buying power to provide agencies standardized, cost effective, non-express small package transportation services.

DATES: August 29, 2002.

FOR FURTHER INFORMATION CONTACT: Mr. Raymond Price, Transportation Program Branch by phone 703-305-7536 or by e-mail at raymond.price@gsa.gov.

SUPPLEMENTARY INFORMATION: The SPTOS was published in the Federal Register for comment on April 1, 2002 (67 FR 15386). Comments, due by May 31, 2002, were received from United Parcel Service. GSA considered these comments in finalizing the document for publication, incorporating changes where appropriate, and reconciled with the commenting organization those comments that were not adopted. The final SPTOS is available through the Internet at the following site: http://www.kc.gsa.gov/fsstt/frt/sptos.htm. If you are unable to access this information, please notify the point of contact listed above.

Dated: August 21, 2002.
Tauna T. Delmonico,
Director, Travel and Transportation Management Division.

[FR Doc. 02-22015 Filed 8-28-02; 8:45 am]

BILLING CODE 6820-24-M